NATIONAL AERONAUTICS AND SPACE ADMINISTRATION

[Notice (01-059)]

NASA Advisory Committees; Renewal of NASA's Advisory Committee Charters

AGENCY: National Aeronautics and Space Administration (NASA).

ACTION: Notice of Renewal of the Charters of NASA's Advisory Committees.

SUMMARY: Pursuant to sections 14(b)(1) and 9(c) of the Federal Advisory Committee Act (Pub. L. 92-463), and after consultation with the Committee Management Secretariat, General Services Administration, the Administrator of the National Aeronautics and Space Administration has determined that a renewal of seven Agency-established advisory committees is in the public interest in connection with the performance of duties imposed upon NASA by law. The structure and duties of these committees are unchanged. However, the Life and Microgravity Sciences and Applications Advisory Committee has been renamed to the Biological and Physical Research Advisory Committee. This change is consistent with the renaming of the Office of Life and Microgravity Sciences and Applications to the Office of Biological and Physical Research. The Aero-space Technology Advisory Committee has been renamed the Aerospace Technology Advisory Committee.

The seven advisory committees are:

• NASA Advisory Council

• Aerospace Technology Advisory Council

• Biological and Physical Research Advisory Committee

• Earth System Science and Applications Advisory Committee

• Minority Business Resources Advisory Committee

• Space Science Advisory Committee

• Technology and Commercialization Advisory Committee

FOR FURTHER INFORMATION CONTACT: Ms. Kathy Dakon, Assistant Advisory Committee Management Officer, Mail Code Z, National Aeronautics and Space Administration, Washington DC 20546, (202) 358-0732.

SUPPLEMENTARY INFORMATION: Information regarding the NASA Advisory Council and its committees is available on the world wide web at: http://www.hq.nasa.gov/office/codez/nac.htm.

Dated: May 3, 2001.
Beth M. McCormick,
Advisory Committee Management Officer, National Aeronautics and Space Administration.

[FR Doc. 01-11555 Filed 5-7-01; 8:45 am]

BILLING CODE 7510-01-M